DEPARTMENT OF DEFENSE

Office of the Secretary

[Docket ID: DoD-2014-OS-0094]

Privacy Act of 1974; System of Records

AGENCY: Office of the Inspector General, DoD.

ACTION: Notice to amend a System of Records.

SUMMARY: The Office of the Inspector General is amending a system of records, CIG-24, entitled “Office Functional Files” in its existing inventory of record systems subject to the Privacy Act of 1974, as amended. The system's records are used to answer, evaluate, adjudicate, defend, prosecute, or settle claims, complaints, lawsuits, or criminal and civil investigations.

DATES: Comments will be accepted on or before July 16, 2014. This proposed action will be effective the day following the end of the comment period unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mark Dorgan, DoD IG FOIA/Privacy Office, Department of Defense, Inspector General, 4800 Mark Center Drive, Alexandria, VA 22350-1500 or telephone: (703) 699-5680.

SUPPLEMENTARY INFORMATION: The Office of the Secretary of Defense systems of records notices subject to the Privacy Act of 1974 (5 U.S.C. 552a), as amended, have been published in the Federal Register and are available from the address in FOR FURTHER INFORMATION CONTACT or from the Defense Privacy and Civil Liberties Office Web site at http://dpclo.defense.gov/.

The Office of the Secretary of Defense proposes to amend one system of records notice in its inventory of record systems subject to the Privacy Act of 1974 (5 U.S.C. 552a), as amended. The proposed amendment is not within the purview of subsection (r) of the Privacy Act of 1974 (5 U.S.C. 552a), as amended, which requires the submission of a new or altered system report.

Dated: June 10, 2014.
Aaron Siegel,
Alternate OSD Federal Register Liaison Officer, Department of Defense.

CIG-24

System Name:

Office Functional Files (June 16, 2006, 71 FR 34899)

Changes:

System name:

Delete entry and replace with “Office of General Counsel Office Functional Files.”

System location:

Delete entry and replace with “Office of the General Counsel, Office of Inspector General, Department of Defense, 4800 Mark Center Drive, Suite 15K26, Alexandria, Virginia 22350-1500.”

* * * * *

Categories of records in the system:

Delete entry and replace with “Name, position description, grade, salary, work history, and complaint; case history files, copies of applicable law(s), working papers of attorneys, testimony of witnesses, background investigation materials, correspondence, damage reports, contracts, accident reports, pleadings, affidavits, estimates of repair costs, invoices, litigation reports, and financial data.”

Authority for maintenance of the system:

Delete entry and replace with “The Inspector General Act of 1978 (Pub. L. 95-452), as amended; DoD Directive 5106.1, Inspector General of the Department of Defense (IG DoD); 5 U.S.C. 301, Departmental Regulations; and DoD Directive 5145.4, Defense Legal Services Agency.”

* * * * *

Storage:

Delete entry and replace with “Paper records and electronic storage media.”

Retrievability:

Delete entry and replace with “Name of litigant or subject of record.”

Safeguards:

Delete entry and replace with “Paper and automated records are stored in rooms with restricted access in a secure building. Access is limited to General Counsel staff in the performance of their official duties. Computer systems in which records reside are protected through the use of assigned user or identification(s) and multiple levels of passwords restricting access. A Common Access Card (CAC) is required for access to electronic records.”

* * * * *

System manager(s) and address:

Delete entry and replace with “Office of the General Counsel and Assistant Inspector General for the Office of Legal Counsel, Office of Inspector General, Department of Defense, 4800 Mark Center Drive, Suite 15K26, Alexandria, Virginia 22350-1500.”

Notification procedures:

Delete entry and replace with “Individuals seeking to determine whether information about themselves is contained in this system should address written inquiries to the Chief, Freedom of Information Act Requester Service Center/Privacy Act Office, Assistant Inspector General for Communications and Congressional Liaison, Office of the Inspector General, DoD, 4800 Mark Center Drive, Alexandria, VA 22350-1500.

For verification purposes, individuals shall provide their full name, address, any details which may assist in locating records of the individual, and their signature.

In addition, the requester must provide a notarized statement or a signed declaration made in accordance with 28 U.S.C. 1746, in the following format:

If executed outside the United States:

`I declare under penalty of perjury under the laws of the United States of America that the foregoing is true and correct. Executed on (date).' (Signature).

If executed within the United States, its territories, possessions, or commonwealths:

`I declare under penalty of perjury that the foregoing is true and correct. Executed on (date).' (Signature).”

Record access procedures:

Delete entry and replace with “Individuals seeking access to information about themselves contained in this system should address written inquiries to the Chief, Freedom of Information Act Requester Service Center/Privacy Act Office, Assistant Inspector General for Communications and Congressional Liaison, Office of the Inspector General, DoD, 4800 Mark Center Drive, Alexandria, VA 22350-1500.

For verification purposes, individuals shall provide their full name, address, any details which may assist in locating records of the individual, and their signature.

In addition, the requester must provide a notarized statement or a signed declaration made in accordance with 28 U.S.C. 1746, in the following format:

If executed outside the United States:

`I declare under penalty of perjury under the laws of the United States of America that the foregoing is true and correct. Executed on (date).' (Signature).

If executed within the United States, its territories, possessions, or commonwealths:

`I declare under penalty of perjury that the foregoing is true and correct. Executed on (date).' (Signature).”

* * * * *

[FR Doc. 2014-13909 Filed 6-13-14; 8:45 am]

BILLING CODE 5001-06-P